DEPARTMENT OF STATE

[Public Notice: 7359]

60-Day Notice of Proposed Information Collection: DS 6561 Pre-Assignment for Overseas Duty for Non Foreign Service Personnel; New Collection OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Pre-Assignment for Overseas Duty Bon-Foreign Service Personnel.

• OMB Control Number: 1405-XXXX.

• Type of Request: New Collection.

• Originating Office: M/MED/CL.

• Form Number: DS 6561.

• Respondents: Overseas employees and family members, not in the Foreign Service.

• Estimated Number of Respondents: 8,000.

• Estimated Number of Responses: 8,000.

• Average Hours Per Response: 1 hour.

• Total Estimated Burden: 8,000.

• Frequency: Every 2-3 years.

• Obligation to Respond: Mandatory to retain medical clearance.

DATES: The Department will accept comments from the public up to 60 days from March 16, 2011.

ADDRESSES: Office of MED Clearances SA 15 1800 North Kent St. Rosslyn, VA 22209. You may submit comments by any of the following methods:

• E-mail: mahoneybj@state.gov.

• Mail (paper, disk, or CD-ROM submissions): 1800 N. Kent St. Rosslyn, VA 22209.

• Fax: 703-875-4850.

• Hand Delivery or Courier: [insert street address—this address is optional].

You must include the DS form number (if applicable), information collection title, and OMB control number in any correspondence.

FOR FURTHER INFORMATION CONTACT: Direct requests for additional information regarding the collection listed in this notice, including requests for copies of the proposed information collection and supporting documents, to Barbara Mahoney Office of Medical Services SA 15, 1800 N. Kent St. Rosslyn, VA 22209, who may be reached on 703-875-5413.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The DS 6561 form provides a concise summary of basic medical history, lab tests and physical examination. Since users of this form are not career Foreign Service Officers and may work for limited periods of time overseas, this form is an efficient method of assessing the status of their health. Respondents are members of non-Foreign Affairs Agencies.

Methodology:

Information is collected at overseas medical units, by physicians in MED's Exam Clinic at SA 1 and by private physicians overseas. Information is collected mostly by fax and electronic submission.

Dated: February 10, 2011.
Joseph A. Kenny,
Executive Director, Office of Medical Services M/MED, Department of State.

[FR Doc. 2011-6131 Filed 3-15-11; 8:45 am]

BILLING CODE 4710-36-P